DEPARTMENT OF AGRICULTURE

Forest Service

Winema and Fremont Resource Advisory Committee

AGENCY: Forest Service, USDA.

ACTION: Notice of meeting.

SUMMARY: The Winema and Fremont Resource Advisory Committee will meet in Klamath Falls, Oregon, for the purpose of evaluating and recommending resource management projects for funding in 2003, under the provisions of Title II of the Secure Rural Schools and Community Self-Determination Act of 2000.

DATES: The meeting will be held on September 12 and 13, 2002.

ADDRESSES: The meeting will be held in the large conference room of the Winema National Forest Supervisor's Office, 2819 Dahlia Street, In Klamath Falls. Send written comments to Winema and Fremont Resource Advisory Committee, c/o USDA Forest Service, P.O. Box 67, Paisley OR 97636, or electronically to waney@fs.fed.us.

FOR FURTHER INFORMATION CONTACT: W.C. (Bill) Aney, Designated Federal Official, Paisley Ranger District, Fremont and Winema National Forests, PO Box 67, Paisley OR 97636 telephone (541) 943-4401.

SUPPLEMENTARY INFORMATION: The meeting will begin at 9:30 a.m. on Thursday, September 12 and end at approximately 3:30 p.m. on Friday September 13. The agenda will include a review of 2002 projects recommended by the RAC, consideration of Title II project proposals for 2003 submitted by the Forest Service, the public, and other agencies, presentations by project proponents, and final recommendations for funding of fiscal year 2003 projects.

All Winema and Fremont Resource Advisory Committee Meetings are open to the public. There will be a time for public input and comment. Interested citizens are encouraged to attend.

Dated: September 3, 2002.
Charles R. Graham,
Forest Supervisor.

[FR Doc. 02-23486 Filed 9-13-02; 8:45 am]

BILLING CODE 3410-11-M